DEPARTMENT OF ENERGY

Federal Energy Regulatory Commission

[Project No. 13862-000]

Deer Creek Hydro, LLC; Notice of Preliminary Permit Application Accepted for Filing and Soliciting Comments, Motions To Intervene, and Competing Applications

November 12, 2010.

On October 14, 2010, Deer Creek Hydro, LLC (Deer Creek Hydro) filed an application for a preliminary permit, pursuant to section 4(f) of the Federal Power Act (FPA), proposing to study the feasibility of the Deer Creek Pumped Storage Project (Project) near Glenrock, Converse County, Wyoming. The sole purpose of a preliminary permit, if issued, is to grant the permit holder priority to file a license application during the permit term. A preliminary permit does not authorize the permit holder to perform any land-disturbing activities or otherwise enter upon lands or waters owned by others without the owners' express permission.

The proposed project will consist of: (1) Two artificial reservoirs created by embankments and joined by approximately 9,715 feet of conduit; (2) an underground powerhouse to be located approximately 3,000 feet southeast of the lower reservoir dam, at an elevation of approximately 5,450 feet; (3) two 150-megawatt (MW) and two 100-MW reversible pump-turbines, totaling 500 MW of generating capacity, with up to 150 MW of additional pumping capacity, for a total of 650 MW pumping capacity; (4) a double-circuit 230-kilovolt, approximately 1.2-mile-long transmission line connecting to an existing substation; and (5) appurtenant facilities. The estimated annual energy production for the proposed Project is approximately 1,533,000 megawatt-hours.

Applicant Contact: Matthew Shapiro, CEO, Gridflex Energy, LLC, 1210 W. Franklin St. Ste. 2, Boise, ID 83702; phone: (208) 246-9925.

FERC Contact: Patrick Murphy (202) 502-8755.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13862-000) in the docket number field to access the document. For assistance, contact FERC Online Support.

Kimberly D. Bose,
Secretary.

[FR Doc. 2010-29311 Filed 11-19-10; 8:45 am]

BILLING CODE 6717-01-P